DEPARTMENT OF COMMERCE

National Oceanic and Atmospheric Administration

Evaluation of State Coastal Management Program; Meeting

AGENCY: Office for Coastal Management (OCM), National Ocean Service (NOS), National Oceanic and Atmospheric Administration (NOAA), Department of Commerce (DOC).

ACTION: Notice of public meeting and opportunity to comment.

SUMMARY: The National Oceanic and Atmospheric Administration (NOAA), Office for Coastal Management will hold a public meeting to solicit comments on the performance evaluation of the Florida Coastal Management Program.

DATES: NOAA will consider all written comments received by October 2, 2020. The virtual public meeting will be held on Wednesday September 23, 2020 at 12:00 p.m. EDT.

ADDRESSES: You may submit comments on the coastal management program NOAA intends to evaluate by emailing Susie Holst Rice, Evaluator, NOAA Office for Coastal Management, at Susie.Holst@noaa.gov. Comments that the Office for Coastal Management receives are considered part of the public record and may be publicly accessible. Any personal identifying information (e.g., name, address) submitted voluntarily by the sender may also be publicly accessible. NOAA will accept anonymous comments.

To participate in the public meeting Wednesday, September 23, 2020 at 12:00 p.m. EDT, registration is required two hours in advance by 10:00 a.m. EDT.

Registration: http://noaacsc.adobeconnect.com/floridacmppublicmeeting/event/event_info.html. You may participate online or by phone. If you would like to provide comment during the public meeting, please select “yes” during the online registration. The line-up of speakers will be based on the date and time of registration.

FOR FURTHER INFORMATION CONTACT: Susie Holst Rice, Evaluator, NOAA Office for Coastal Management by email at Susie.Holst@noaa.gov or by phone at (240) 533-0730. Copies of the previous evaluation findings, coastal management program's 2016-2020 Assessment and Strategy and reserve's management plan and site profile may be viewed and downloaded on the internet at http://coast.noaa.gov/czm/evaluations. A copy of the evaluation notification letter and most recent progress reports may be obtained upon request by contacting Susie Holst Rice.

SUPPLEMENTARY INFORMATION: Section 312 of the Coastal Zone Management Act (CZMA) requires NOAA to conduct periodic evaluations of federally approved state coastal programs. The process includes one or more public meetings, consideration of written public comments, and consultations with interested Federal, state, and local agencies and members of the public. For the evaluation of the Florida Coastal Management Program, NOAA will consider the extent to which the state has met the national objectives, adhered to the management program approved by the Secretary of Commerce, and adhered to the terms of financial assistance under the CZMA. When the evaluation is completed, NOAA's Office for Coastal Management will place a notice in the Federal Register announcing the availability of the Final Evaluation Findings.

Keelin Kuipers,
Deputy Director, Office for Coastal Management, National Ocean Service, National Oceanic and Atmospheric Administration.

[FR Doc. 2020-17937 Filed 8-14-20; 8:45 am]

BILLING CODE 3510-JE-P